DEPARTMENT OF ENERGY

Federal Energy Regulatory Commission

[Project No. 2179-043]

Merced Irrigation District; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New License.

b. Project No.: 2179-043.

c. Date filed: February 27, 2012.

d. Applicant: Merced Irrigation District (Merced ID).

e. Name of Project: Merced River Hydroelectric Project.

f. Location: The existing project is located on the Merced River in Merced and Mariposa counties, California. The project would occupy 3,152.9 acres of federal land managed by the Bureau of Land Management.

g. Filed Pursuant to: Federal Power Act 16 U.S.C. 791(a)-825.

h. Applicant Contact: Merced Irrigation District, P.O. Box 2288, Merced, CA 95344; Telephone (209) 722-5761.

i. FERC Contact: Matt Buhyoff, (202) 502-6824 or matt.buhyoff@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2179-043.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The project consists of two developments:

New Exchequer Development—(1) New Exchequer Dam—a 490 feet-high dam with a crest length of 1,220 feet and a crest elevation of 879 feet; (2) an ogee-type concrete spillway located about one mile north of New Exchequer dam in a saddle; (3) an earth and rock dike 62-feet-high and 1,500-feet-long located in a saddle about 0.75 mile north of New Exchequer dam; (4) Lake McClure—a reservoir formed by New Exchequer dam with normal maximum water surface elevation of 867 feet msl, a gross storage capacity of 1,024,600-acre-feet, a surface area of 7,110 acres, and a shoreline length of about 82 miles; (5) an intake located near the north end of the dam and approximately 382 feet deep at full pool; (6) a 383 feet-long, 18-feet-diameter concrete-lined power tunnel leading from the intake to McSwain reservoir north of New Exchequer powerhouse; (7) a 982-feet-long, 16-feet-diameter concrete-encased steel penstock that leads to; (8) a powerhouse with one vertical Francis turbine with a capacity of 94.5 MW, located at the base of New Exchequer dam releasing directly into McSwain reservoir; (9) a switchyard located adjacent to New Exchequer powerhouse and; (10) four developed recreation facilities (McClure Point, Barrett Cove, Horseshoe Bend, and Bagby) with 515 camping units, 4 boat launch facilities, boat rentals, showers, 28 comfort stations, 3 swimming lagoons, 2 marinas, gas and oil service stations, 186 water-electrical campsite hookups, washers and dryers, 117 picnic units and fish cleaning stations.

McSwain Development—(1) McSwain dam—located 6.3 miles downstream from New Exchequer dam, an 80 feet-high embankment structure, with a crest length of 1,620 feet and a crest elevation of 425 feet; (2) an ungated concrete overflow spillway located in a flat ridge on the southeast side of the dam, including two sections: A 150-feet-long section with a crest elevation at 402 feet, and a 475-feet-long section with a crest elevation at 400 feet; (3) McSwain reservoir—a 4.8 miles-long reservoir with a normal maximum water surface elevation at 400 feet msl, a maximum depth of 66 feet, a gross storage capacity of 9,730 acre-feet, a surface area of 310 acres, and a shoreline length of about 12.5 miles; (4) an intake located on the north end of the dam and approximately 39 feet below the reservoir's normal minimum water surface elevation; (5) a 160 feet-long, 9-feet-diameter, low-level powerhouse-bypass pipe leading from the power tunnel intake, through the dam, directly to Pacific Gas and Electric Company's (PG&E) Merced Falls reservoir (FERC No. 2467); (6) a 15-feet-diameter and 160-feet-long penstock leading a powerhouse with a single vertical Kaplan turbine with a capacity of 9.0 MW, located at the base of McSwain dam, and releasing into Merced Falls reservoir; (7) a switchyard located adjacent to McSwain powerhouse, and; (8) one developed recreation facility with 99 camping units, 1 boat launch facility, boat rentals, showers, 5 comfort stations, a swimming lagoon, marina, gas and oil, 65 water-electrical campsite hookups, washers and dryers, 48 picnic units, a concession store, and fish cleaning stations.

The Merced River Project has a dependable capacity of 103.5 MW and an annual average generation of approximately 385 GWh. Merced ID is not proposing any structural changes to the project. However, Merced ID is proposing to remove from the project, but retain in operation outside the license, seven water delivery facilities, which function, in part, to deliver water to a wildlife refuge. Merced ID is also proposing capital improvements to recreation areas at 5 existing recreation sites, as well as the development of a new non-motorized recreation area along the west shore of Lake McClure.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR. 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed in conjunction with the Merced Falls Hydroelectric Project application (P-2467-020) and according to the following revised Hydro Licensing Schedule. Revisions to the schedule may be made as appropriate.

Milestone | Target date
Filing of recommendations, preliminary terms and conditions, and preliminary fishway prescriptions | May, 2014.
Commission issues Draft EA or EIS | November, 2014.
Comments on Draft EA or EIS | January, 2015.
Modified Terms and Conditions | March, 2015.
Commission Issues Final EA or EIS | June, 2015.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: March 24, 2014.
Kimberly D. Bose,
Secretary .

[FR Doc. 2014-07305 Filed 4-1-14; 8:45 am]

BILLING CODE 6717-01-P